DEPARTMENT OF TRANSPORTATION

Surface Transportation Board

[STB Finance Docket No. 34559]

Illinois Railnet, Inc.—Trackage Rights Exemption—The Burlington Northern and Santa Fe Railway Company

The Burlington Northern and Santa Fe Railway Company (BNSF) has agreed to grant to Illinois Railnet, Inc. (Illinois): (1) limited local trackage rights for the purpose of servicing customers on BNSF in and around Oregon, IL, and (2) limited overhead trackage rights for the purpose of interchanging traffic between BNSF and Illinois and accommodating light power moving over BNSF's lines between milepost 98.49 near Oregon, and milepost 86.57 near Flag Center, IL, and between milepost 43.36 near Zearing, IL, and milepost 40.73 near Montgomery, IL.

Illinois indicates that it expected to consummate the transaction on October 8, 2004.

The transaction is related to STB Finance Docket No. 34549, Illinois Railnet, Inc.—Acquisition and Operation Exemption—The Burlington Northern and Santa Fe Railway Company, wherein Illinois seeks to acquire from BNSF and operate two lines of railroad: (1) a portion of BNSF's Oregon Subdivision between milepost 98.75 at Oregon, and milepost 105.78 at Mt. Morris, IL, and (2) a portion of BNSF's La Salle Subdivision between milepost 25.7 at La Salle, IL, and milepost 43.36 at Zearing.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34559, must be filed with the Surface Transportation Board, 1925 K Street, NW., Washington, DC 20423-0001. In addition, a copy of each pleading must be served on John D. Heffner, 1920 N Street, NW., Suite 800, Washington, DC 20036.

Board decisions and notices are available on our Web site at http://www.stb.dot.gov.

Decided: October 12, 2004.
By the Board David M. Konschnik, Director, Office of Proceedings.
Vernon A. Williams,
Secretary.

[FR Doc. 04-23259 Filed 10-15-04; 8:45 am]

BILLING CODE 4915-01-P